ENVIRONMENTAL PROTECTION AGENCY

40 CFR Part 52

[MD100-3100; FRL-7835-7]

Approval and Promulgation of Air Quality Implementation Plans; Maryland; Revised Format of 40 CFR Part 52 for Materials Being Incorporated by Reference

AGENCY: Environmental Protection Agency (EPA).

ACTION: Final rule; notice of administrative change.

SUMMARY: EPA is revising the format for materials submitted by Maryland that are incorporated by reference (IBR) into its State implementation plan (SIP). The regulations affected by this format change have all been previously submitted by Maryland and approved by EPA. This format revision will primarily affect the “Identification of plan” section, as well as the format of the SIP materials that will be available for public inspection at the National Archives and Records Administration (NARA), the Air and Radiation Docket and Information Center located at EPA Headquarters in Washington, DC, and the EPA Regional Office. EPA is also adding a table in the “Identification of plan” section which summarizes the approval actions that EPA has taken on the non-regulatory and quasi-regulatory portions of the Maryland SIP.

DATES: Effective Date: This final rule is effective on November 29, 2004.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue NW., Room B108, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The supplementary information is organized in the following order:

I. Background

What a SIP is

How EPA enforces SIPs

How the State and EPA updates the SIP

How EPA compiles the SIPs

How EPA organizes the SIP compilation

Where you can find a copy of the SIP compilation

The format of the new Identification of Plan section

When a SIP revision becomes Federally enforceable

The historical record of SIP revision approvals

II. What EPA Is Doing in This Action

III. Statutory and Executive Order Reviews

I. Background

What a SIP is—Each state has a SIP containing the control measures and strategies used to attain and maintain the national ambient air quality standards (NAAQS). The SIP is extensive, containing such elements as air pollution control regulations, emission inventories, monitoring network, attainment demonstrations, and enforcement mechanisms.

How EPA enforces SIPs—Each state must formally adopt the control measures and strategies in the SIP after the public has had an opportunity to comment on them. They are then submitted to EPA as SIP revisions upon which EPA must formally act.

Once these control measures and strategies are approved by EPA, after notice and comment, they are incorporated into the Federally approved SIP and are identified in part 52 (Approval and Promulgation of Implementation Plans), title 40 of the Code of Federal Regulations (40 CFR part 52). The actual state regulations approved by EPA are not reproduced in their entirety in 40 CFR part 52, but are “incorporated by reference” (IBR'd) which means that EPA has approved a given state regulation with a specific effective date. This format allows both EPA and the public to know which measures are contained in a given SIP and ensures that the state is enforcing the regulations. It also allows EPA and the public to take enforcement action, should a state not enforce its SIP-approved regulations.

How the State and EPA updates the SIP—The SIP is a living document which the state can revise as necessary to address the unique air pollution problems in the state. Therefore, EPA must, from time to time, take action on SIP revisions containing new and/or revised regulations in order to make them part of the SIP. On May 22, 1997 (62 FR 27968), EPA revised the procedures for IBR'ing Federally-approved SIPs, as a result of consultations between EPA and the Office of the Federal Register (OFR).

EPA began the process of developing: (1) A revised SIP document for each state that would be IBR'd under the provisions of title 1 CFR part 51; (2) a revised mechanism for announcing EPA approval of revisions to an applicable SIP and updating both the IBR document and the CFR; and (3) a revised format of the “Identification of Plan” sections for each applicable subpart to reflect these revised IBR procedures. The description of the revised SIP document, IBR procedures, and “Identification of Plan” format are discussed in further detail in the May 22, 1997, Federal Register document.

How EPA compiles the SIPs—The Federally-approved regulations, source-specific permits, and nonregulatory provisions (entirely or portions of) submitted by each state agency have been compiled by EPA into a “SIP compilation.” The SIP compilation contains the updated regulations, source-specific permits, and nonregulatory provisions approved by EPA through previous rulemaking actions in the Federal Register.

How EPA organizes the SIP compilation—Each compilation contains three parts. Part one contains the regulations, part two contains the source-specific requirements that have been approved as part of the SIP, and part three contains nonregulatory provisions that have been EPA approved. Each part consists of a table of identifying information for each SIP-approved regulation, each SIP-approved source-specific permit, and each nonregulatory SIP provision. In this action, EPA is publishing the tables summarizing the applicable SIP requirements for Maryland. The EPA Regional Offices have the primary responsibility for updating the compilations and ensuring their accuracy.

Where you can find a copy of the SIP compilation—EPA Region III developed and will maintain the compilation for Maryland. A copy of the full text of Maryland's regulatory and source-specific SIP compilation will also be maintained at NARA and EPA's Air Docket and Information Center.

The format of the new Identification of Plan section—In order to better serve the public, EPA revised the organization of the “Identification of Plan” section and included additional information to clarify the enforceable elements of the SIP. The revised Identification of Plan section contains five subsections:

1. Purpose and scope.

2. Incorporation by reference.

3. EPA-approved regulations.

4. EPA-approved source-specific permits.

5. EPA-approved nonregulatory and quasi-regulatory provisions such as air quality attainment plans, rate of progress plans, maintenance plans, monitoring networks, and small business assistance programs.

When a SIP revision becomes Federally enforceable—All revisions to the applicable SIP become Federally enforceable as of the effective date of the revisions to paragraphs (c), (d), or (e) of the applicable Identification of Plan section found in each subpart of 40 CFR part 52.

The historical record of SIP revision approvals—To facilitate enforcement of previously approved SIP provisions and provide a smooth transition to the new SIP processing system, EPA retains the original Identification of Plan section, previously appearing in the CFR as the first or second section of part 52 for each state subpart. After an initial two-year period, EPA will review its experience with the new system and enforceability of previously approved SIP measures and will decide whether or not to retain the Identification of Plan appendices for some further period.

II. What EPA Is Doing in This Action

Today's rule constitutes a “housekeeping” exercise to ensure that all revisions to the state programs that have occurred are accurately reflected in 40 CFR part 52. State SIP revisions are controlled by EPA regulations at 40 CFR part 51. When EPA receives a formal SIP revision request, the Agency must publish the proposed revision in the Federal Register and provide for public comment before approval.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (63 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 808(2). As stated previously, EPA has made such a good cause finding, including the reasons therefore, and established an effective date of November 29, 2004. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Maryland SIP compilations had previously afforded interested parties the opportunity to file a petition for judicial review in the United States Court of Appeals for the appropriate circuit within 60 days of such rulemaking action. Thus, EPA sees no need in this action to reopen the 60-day period for filing such petitions for judicial review for these “Identification of plan” reorganization actions for Maryland.

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: November 1, 2004.
Donald S. Welsh,
Regional Administrator, Region III.

40 CFR part 52 is amended as follows:

PART 52—[AMENDED]

1. The authority citation for 40 CFR part 52 continues to read as follows:

Authority: 42 U.S.C. 7401 et seq.

Subpart V—Maryland

2. Section 52.1070 is redesignated as § 52.1100 and the heading and paragraph (a) are revised to read as follows:

§ 52.1100 Original identification of plan section.

(a) This section identifies the original “Air Implementation Plan for the State of Maryland” and all revisions submitted by Maryland that were federally approved prior to November 1, 2004.

* * * * *

3. A new § 52.1070 is added to read as follows:

§ 52.1070 Identification of plan.

(a) Purpose and scope. This section sets forth the applicable State implementation plan for Maryland under section 110 of the Clean Air Act, 42 U.S.C. 7410, and 40 CFR part 51 to meet national ambient air quality standards.

(b) Incorporation by reference. (1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after November 1, 2004, will be incorporated by reference in the next update to the SIP compilation.

(2) EPA Region III certifies that the rules/regulations provided by EPA at the addresses in paragraph (b)(3) of this section are an exact duplicate of the officially promulgated State rules/regulations which have been approved as part of the State implementation plan as of November 1, 2004.

(3) Copies of the materials incorporated by reference may be inspected at the EPA Region III Office at 1650 Arch Street, Philadelphia, PA 19103; the EPA, Air and Radiation Docket and Information Center, Air Docket (6102), 1301 Constitution Avenue, NW., Room B108, Washington, DC 20460; or at the National Archives and Records Administration (NARA). For information on the availability of this material at NARA, call (202) 741-6030, or go to: http://www.archives.gov/federal_register/code_of_federal_regulations/ibr_locations.html.

(c) EPA approved regulations.

EPA-Approved Regulations in the Maryland SIP
Code of Maryland administrative regulations (COMAR) citation | Title/subject | State effective date | EPA approval date | Additional explanation/citation at 40 CFR 52.1100
26.11.01 | General Administrative Provisions
26.11.01.01A., .01B Exceptions: .01B(3), (13), (21) through (23), (25) | Definitions | 10/10/01 | 5/28/02 67 FR 36810 | (c)(171); Additional EPA approvals are codified at §§ 52.1100(c)(119)(c)(122), (c)(143), (c)(148), (c)(158), (c)(159), and (c)(164).
26.11.01.02 | Relationship of Provisions in this Subtitle | 8/1/88 | 11/3/92 57 FR 49651 | (c)(90)(i)(B)(1)
26.11.01.03 | Delineation of Areas | 8/1/88 | 11/3/92 57 FR 49651 | (c)(90)(i)(B)(1)
26.11.01.04 | Testing and Monitoring | 2/17/92 | 9/7/01 66 FR 46727 | (c)(153)
26.11.01.05 | Records and Information | 6/30/97 and 12/10/01 | 5/28/02 67 FR 36810 | (c)(172)
26.11.01.05-1 | Emission Statements | 12/7/92 | 10/12/94 59 FR 51517 | (c)(109)
26.11.01.06 | Circumvention | 8/1/88 | 11/3/92 57 FR 49651 | (c)(90)(i)(B)(1)
26.11.01.07 | Malfunctions and Other Temporary Increases in Emissions | 8/1/88 | 11/3/92 57 FR 49651 | (c)(90)(i)(B)(1);
26.11.01.08 | Determination of Ground Level Concentrations—Acceptable Techniques | 8/1/88 | 11/3/92 57 FR 49651 | (c)(90)(i)(B)(5)
26.11.01.09 | Vapor Pressure of Gasoline | 8/1/88 | 11/3/92 57 FR 49651 | (c)(90)(i)(B)(5)
26.11.01.10 | Continuous Emission Monitoring (CEM) Requirements | 7/22/91 | 2/28/96 61 FR 7418 | (c)(106); TM90-01 was approved as “additional material”, but not IBR'd.
26.11.02 | Permits, Approvals, and Registration
26.11.02.01 | Definitions | 5/8/95 | 2/27/03 68 FR 9012 | (c)(182); Exceptions: 26.11.02.01B(1), (1-1), (4)-(6), (10), (15), (16), (22), (29)-(33), (37), (39), (42), (46), (49), (50), (54).
26.11.02.02 | General Provisions | 5/8/95 | 2/27/03 68 FR 9012 | (c)(182); Exceptions: .02D.
26.11.02.03 | Federally Enforceable Permits to Construct and State Permits to Operate | 5/8/95 | 2/27/03 68 FR 9012 | (c)(182)
26.11.02.04 | Duration of Permits | 5/8/95 | 2/27/03 68 FR 9012 | (c)(182); Exception: .04C(2).
26.11.02.05 | Violation of Permits and Approvals | 5/8/95 | 2/27/03 68 FR 9012 | (c)(182)
26.11.02.06 | Denial of Applications for State Permits and Approvals | 5/8/95, 6/16/97 | 2/27/03 68 FR 9012 | (c)(182)
26.11.02.07 | Procedures for Denying, Revoking, or Reopening and Revising a Permit or Approval | 5/8/95 | 2/27/03 68 FR 9012 | (c)(182)
26.11.02.08 | Late Applications and Delays in Acting on Applications | 5/8/95 | 2/27/03 68 FR 9012 | (c)(182)
26.11.02.09 | Sources Subject to Permits to Construct and Approvals | 5/8/95, 5/4/98 | 2/27/03 68 FR 9012 | (c)(182)
26.11.02.10 | Sources Exempt from Permits to Construct and Approvals | 5/8/95, 6/16/97, 9/22/97, 3/22/99 | 2/27/03 68 FR 9012 | (c)(182)
26.11.02.11 | Procedures for Obtaining Permits to Construct Certain Significant Sources | 5/8/95, 6/16/97 | 2/27/03 68 FR 9012 | (c)(182); Exception: .11C.
26.11.02.12 | Procedures for Obtaining Approvals of PSD Sources and NSR Sources, Permits to Construct, Permits to Construct MACT Determinations on a Case-by-Case Basis in Accordance with 40 CFR Part 63, Subpart B, and Certain 100-Ton Sources | 5/8/95 | 2/27/03 68 FR 9012 | (c)(182)
26.11.02.13 | Sources Subject to State Permits to Operate | 5/8/95 | 2/27/03 68 FR 9012 | (c)(182)
26.11.02.14 | Procedures for Obtaining State Permits to Operate and Permits to Construct Certain Sources and Permits to Construct Control Equipment on Existing Sources | 5/8/95, 6/16/97 | 2/27/03 68 FR 9012 | (c)(182)
26.11.04 | State Adopted Ambient Air Quality Standards and Guidelines
26.11.04.02 | State-Adopted National Ambient Air Quality Standards | 5/8/95 | 8/20/01 66 FR 43485 | (c)(165)
26.11.04.03 | Definitions, Reference Conditions, and Methods of Measurement | 2/21/89 | 2/24/94 59 FR 8865 | (c)(99)
26.11.04.04 | Particulate Matter | 2/21/89 | 2/24/94 59 FR 8865 | (c)(99)
26.11.04.05 | Sulfur Oxides | 8/1/88 | 11/3/92 57 FR 49651 | (c)(90)(i)(B)(3)
26.11.04.06 | Carbon Monoxide | 1/5/88; recodified 8/1/88 | 4/7/93 58 FR 18010 | (c)(92)
26.11.04.07 | Ozone | 8/1/88 | 11/3/92 57 FR 49651 | (c)(90)(i)(B)(3)
26.11.04.08 | Nitrogen Dioxide | 8/1/88 | 11/3/92 57 FR 49651 | (c)(90)(i)(B)(3)
26.11.04.09 | Lead | 8/1/88 | 11/3/92 57 FR 49651 | (c)(90)(i)(B)(3)
26.11.05 | Air Quality Episode System
26.11.05.01 | Definitions | 6/18/90 | 4/14/94 59 FR 17698 | (c)(100)
26.11.05.02 | General Requirements | 6/18/90 | 4/14/94 59 FR 17698 | (c)(100)
26.11.05.03 | Air Pollution Episode Criteria | 6/18/90 | 4/14/94 59 FR 17698 | (c)(100)
26.11.05.04 | Standby Emissions Reduction Plan | 8/1/88 | 11/3/92 57 FR 49651 | (c)(90)(i)(B)(4)
26.11.05.05 | Control Requirements and Standby Orders | 6/18/90 | 4/14/94 59 FR 17698 | (c)(100)
26.11.05.06 | Tables | 8/1/88 | 11/3/92 57 FR 49651 | (c)(90)(i)(B)(4)
26.11.06 | General Emissions Standards, Prohibitions, and Restrictions
26.11.06.01 | Definitions | 5/8/91 | 11/29/94 59 FR 60908 | (c)(102)(i)(B)(14)
26.11.06.02 [Except: .02A(1)(e), (1)(g), (1)(h), (1)(i)] | Visible Emissions | 11/11/02 | 8/6/03 68 FR 46487 | (c)(181)
26.11.06.03 | Particulate Matter | 11/11/02 | 8/6/03 68 FR 46487 | (c)(181)
26.11.06.04 | Carbon Monoxide in Areas III and IV | 1/5/88; recodified 8/1/88 | 4/7/93 58 FR 18010 | (c)(92)
26.11.06.05 | Sulfur Compounds from Other than Fuel Burning Equipment | 11/11/02 | 8/6/03 68 FR 46487 | (c)(181)
26.11.06.06 | Volatile Organic Compounds | 9/22/97 | 5/7/01 66 FR 22924 | (c)(156) Note: On 2/27/03 (68 FR 9012), EPA approved a revised rule citation with a State effective date of 5/8/95 [(c)(182)(i)(C)]
26.11.06.10 | Refuse Burning Prohibited in Certain Installations | 8/1/88 | 11/3/92 57 FR 49651 | (c)(90)(i)(B)(5)
26.11.06.14 | Control of PSD sources | 10/10/01 | 5/28/02 67 FR 36810 | (c)(171)
26.11.06.15 | Nitrogen Oxides from Nitric Acid Plants | 8/1/88 | 11/3/92 57 FR 49651 | (c)(90)(i)(B)(5)
26.11.06.16 | Tables | 8/1/88 | 11/3/92 57 FR 49651 | (c)(90)(i)(B)(5)
26.11.07 | Open Fires
26.11.07.01 | Definitions | 5/22/95 | 6/11/02 67 FR 39856 | (c)(173)
26.11.07.02 | General | 5/22/95 | 2/25/97 62 FR 8380 | (c)(120)
26.11.07.03 | Control Officer May Authorize Certain Open Fires | 8/11/97 | 6/11/02 67 FR 39856 | (c)(173)
26.11.07.04 | Public Officers May Authorize Certain Fires | 5/22/95 | 2/25/97 62 FR 8380 | (c)(120)
26.11.07.05 | Open Fires Allowed Without Authorization of Control Officer or Public Officer | 5/22/95 | 2/25/97 62 FR 8380 | (c)(120) .05A(3) & (4), and .05B(3) are State-enforceable only.
26.11.07.06 | Safety Determinations at Federal Facilities | 8/11/97 | 6/11/02 67 FR 39856 | (c)(173)
10.18.08 | Control of Incinerators
10.18.08.01 | Definitions | 3/25/84 | 7/2/85 50 FR 27245 | (c)(82)
10.18.08.02 | Applicability | 7/18/80 | 8/5/81 46 FR 39818 | (c)(45)
10.18.08.03 | Prohibition of Certain Incinerators in Areas III and IV | 6/8/81 | 5/11/82 47 FR 20126 | (c)(58)
10.18.08.04 | Visible Emissions | 3/25/84 | 7/2/85 50 FR 27245 | (c)(82)
10.18.08.05 | Particulate Matter | 3/25/84 | 7/2/85 50 FR 27245 | (c)(82)
10.18.08.06 | Prohibition of Unapproved Hazardous Waste Incinerators | 3/25/84 | 7/2/85 50 FR 27245 | (c)(82)
26.11.09 | Control of Fuel Burning Equipment and Stationary Internal Combustion Engines, and Certain Fuel-Burning Installations
26.11.09.01 | Definitions | 11/11/02 | 5/1/03 68 FR 23206 | (c)(183)
26.11.09.02 | Applicability | 8/1/88 | 11/3/92 57 FR 49651 | (c)(90)(i)(B)(7)
26.11.09.03 | General Conditions for Fuel Burning Equipment | 8/1/88 | 11/3/92 57 FR 49651 | (c)(90)(i)(B)(7)
26.11.09.04 | Prohibition of Certain New Fuel Burning Equipment | 8/1/88 | 11/3/92 57 FR 49651 | (c)(90)(i)(B)(7)
26.11.09.05 | Visible Emissions | 11/11/02 | 5/1/03 68 FR 23206 | (c)(183)
26.11.09.06 | Control of Particulate Matter | 11/11/02 | 5/1/03 68 FR 23206 | (c)(183)
26.11.09.07 | Control of Sulfur Oxides from Fuel Burning Equipment | 8/1/88 | 11/3/92 57 FR 49651 | (c)(90)(i)(B)(7)
26.11.09.08 | Control of NOX Emissions for Major Stationary Sources | 11/24/03 | 9/20/04 69 FR 56170 | (c)(191); SIP effective date is 10/20/04
26.11.09.09 | Tables and Diagrams | 11/11/02 | 5/1/03 68 FR 23206 | (c)(183); Revised Table 1
26.11.10 | Control of Iron and Steel Production Installations
26.11.10.01 | Definitions | 12/25/00 | 11/7/01 66 FR 56222 | (c)(163)
26.11.10.02 | Applicability | 11/2/98 | 9/7/01 66 FR 46727 | (c)(153)
26.11.10.03 | Visible Emissions | 11/2/98 | 9/7/01 66 FR 46727 | (c)(153)
26.11.10.04 | Control of Particulate Matter | 11/2/98 | 9/7/01 66 FR 46727 | (c)(153)
26.11.10.05 | Sulfur Content Limitations for Coke Oven Gas | 11/2/98 | 9/7/01 66 FR 46727 | (c)(153)
26.11.10.06[1] | Control of Volatile Organic Compounds from Iron and Steel Production Installations | 12/25/00 | 11/7/01 66 FR 56222 | (c)(163)
26.11.10.06[2] | Carbon Monoxide | 8/1/88 | 11/3/92 57 FR 49651 | (c)(90)(i)(B)(8)
26.11.10.07 | Testing and Observation Procedures | 12/25/00 | 11/7/01 66 FR 56222 | (c)(163)
26.11.11 | Control of Petroleum Products Installations, Including Asphalt Paving, Asphalt Concrete Plants, and Use of Waste Oils
26.11.11.01 | Applicability | 8/1/88 | 11/3/92 57 FR 49651 | (c)(90(i)(B)(9)
26.11.11.02 | Asphalt Paving | 4/26/93 | 1/6/95 60 FR 2018 | (c)(113)(i)(B)(1)
26.11.11.03 | Asphalt Concrete Plants in Areas I, II, V, and VI | 8/1/88 | 11/3/92 57 FR 49651 | (c)(90(i)(B)(9)
26.11.11.06 | Use of Waste Oils as Fuel | 8/1/88 | 11/3/92 57 FR 49651 | (c)(90(i)(B)(9);
26.11.12 | Control of Batch Type Hot-Dip Galvanizing Installations
26.11.12.01 | Definitions | 5/8/95 | 7/25/00 64 FR 45743 | (c)(149)
26.11.12.02 | Applicability | 5/8/95 | 7/25/00 64 FR 45743 | (c)(149)
26.11.12.03 | Prohibitions and Exemptions | 5/8/95 | 7/25/00 64 FR 45743 | (c)(149)
26.11.12.04 | Visible Emissions | 8/1/88 | 11/3/92 57 FR 49651 | (c)(90)(i)(B)(10)
26.11.12.05 | Particulate Matter | 8/1/88 | 11/3/92 57 FR 49651 | (c)(90)(i)(B)(10)
26.11.12.06 | Reporting Requirements | 8/1/88 | 11/3/92 57 FR 49651 | (c)(90)(i)(B)(10)
26.11.13 | Control of Gasoline and Other Volatile Organic Compound Storage and Handling
26.11.13.01 | Definitions | 8/11/97 | 12/22/98 63 FR 70667 | (c)(130)
26.11.13.02 | Applicability and Exemption | 4/26/93 | 1/6/95 60 FR 2018 | (c)(113)(i)(B)(3)
26.11.13.03 | Large Storage Tanks | 8/1/88 | 11/3/92 57 FR 49651 | (c)(90)(i)(B)(12)
26.11.13.04 | Loading Operations | 8/11/97 | 12/22/98 63 FR 70667 | (c)(132)
26.11.13.05 | Gasoline Leaks from Tank Trucks | 2/15/93 | 1/6/95 60 FR 2018 | (c)(112)
26.11.13.06 | Plans for Compliance | 4/26/93 | 1/6/95 60 FR 2018 | (c)(113)(i)(B)(5)
26.11.13.07 | Control of VOC Emissions from Portable Fuel Containers | 1/21/02 | 6/29/04 69 FR 38848 | (c)(184)
26.11.14 | Control of Emissions From Kraft Pulp Mills
26.11.14.01 | Definitions | 1/8/01, 10/15/01 | 11/7/01 66 FR 56220 | (c)(170)
26.11.14.02 | Applicability | 1/8/01 | 11/7/01 66 FR 56220 | (c)(170)
26.11.14.06 | Control of Volatile Organic Compounds | 1/8/01, 10/15/01 | 11/7/01 66 FR 56220 | (c)(170)
26.11.17 | Requirements for Major New Sources and Modifications
26.11.17.01 | Definitions | 11/24/03 | 9/20/04 69 FR 56170 | 52.1070(191); SIP 56170 effective date is 10/20/04.
26.11.17.02 | Applicability | 4/26/93, 10/2/00 | 2/12/01 66 FR 9766 | 52.1070(c)(148)
26.11.17.03 | General Conditions | 4/26/93, 10/2/00 | 2/12/01 66 FR 9766 | 52.1070(191); SIP effective date is 10/20/04.
26.11.17.04 | Baseline for Determining Credit for Emission and Air Quality Offsets | 4/26/93, 10/2/00 | 2/12/01 66 FR 9766 | 52.1070(c)(148)
26.11.17.05 | Administrative Procedures | 4/26/93, 10/2/00 | 2/12/01 66 FR 9766 | 52.1070(c)(148)
26.11.19 | Volatile Organic Compounds from Specific Processes
26.11.19.01 | Definitions | 6/5/95 | 9/2/97 62 FR 46199 | (c)(126) Note: On 5/13/1998 (63 FR 26462), EPA approved the revised definition of “major stationary source of VOC” with a State effective date of 5/8/1995 [(c)(128)]
26.11.19.02 | Applicability, Determining Compliance, Reporting, and General Requirements | 5/4/98, 12/10/01 | 2/3/03 68 FR 5228 | (c)(174), (c)(175) 1. Limited approval of paragraph .02G (9/4/98, 63 FR 47174) [(c)(131)-(c)(133)] 2. On 2/27/03 (68 FR 9012), EPA approved a revised rule citation with a State effective date of 5/8/95 [(c)(182)(i)(D)]
26.11.19.03 | Automotive and Light-Duty Truck Coating | 9/22/97 | 11/5/98 63 FR 59720 | (c)(140)
26.11.19.04 | Can Coating | 8/1/88 | 11/3/92 57 FR 49651 | (C)(90)(i)(B)(12)
26.11.19.05 | Coil Coating | 8/1/88 | 11/3/92 57 FR 49651 | (C)(90)(i)(B)(12)
26.11.19.06 | Large Appliance Coating | 8/1/88 | 11/3/92 57 FR 49651 | (C)(90)(i)(B)(12)
26.11.19.07 | Paper, Fabric, Vinyl and Other Plastic Parts Coating | 8/24/98 | 1/14/2000 64 FR 2334 | (c)(147)
26.11.19.07-1 | Control of VOC Emissions from Solid Resin Decorative Surface Manufacturing | 6/15/98 | 6/17/99 64 FR 32415 | (c)(142)
26.11.19.08 | Metal Furniture Coating | 8/1/88 | 11/3/92 57 FR 49651 | (C)(90)(i)(B)(12)
26.11.19.09 | Control of Volatile Organic Compounds (VOC) Emissions from Cold and Vapor Degreasing | 6/5/95 | 8/4/97 62 FR 41853 | (c)(123)
26.11.19.10 | Flexographic and Rotogravure Printing | 6/5/95 | 9/2/97 62 FR 46199 | (c)(126)
26.11.19.11 | Control of Volatile Organic Compounds (VOC) Emissions from Sheet-Fed and Web Lithographic Printing | 6/5/95 | 9/2/97 62 FR 46199 | (c)(126)
26.11.19.12 | Dry Cleaning Installations | 9/22/97 | 9/2/98 63 FR 46662 | (c)(131)
26.11.19.13 | Miscellaneous Metal Coating | 5/8/91 | 11/29/94 59 FR 60908 | (c)(102)(i)(B)(6)
26.11.19.13-1 | Aerospace Coating Operations | 10/2/00, 10/15/01 | 11/7/01 66 FR 56220 | (c)(169)
26.11.19.13-2 | Control of VOC Emissions from Brake Shoe Coating Operations | 8/24/98 | 6/17/99 64 FR 32415 | (c)(142)
26.11.19.13-3 | Control of VOC Emissions from Structural Steel Coating Operations | 6/29/98 | 6/17/99 64 FR 32415 | (c)(142)
26.11.19.14 | Manufacture of Synthesized Pharmaceutical Products | 5/8/91 | 11/29/94 59 FR 60908 | (c)(102)(i)(B)(14)
26.11.19.15 | Paint, Resin, and Adhesive Manufacturing and Adhesive Application | 5/4/98, 3/22/99 | 10/28/99 64 FR 57989 | (c)(145)
26.11.19.16 | Control of VOC Equipment Leaks | 8/19/91 | 9/7/94 59 FR 46180 | (c)(103)(i)(B)(9)
26.11.19.17 | Control of Volatile Organic Compounds (VOC) Emissions from Yeast Manufacturing | 11/7/94, 6/5/95 | 10/15/97 64 FR 53544 | (c)(125)(i)(B)(1); revised 10/27/04 (69 FR 62589)
26.11.19.18 | Control of Volatile Organic Compounds (VOC) Emissions from Screen Printing and Digital Imaging | 6/10/02 | 1/15/03 68 FR 1972 | (c)(177)
26.11.19.19 | Control of Volatile Organic Compounds (VOC) Emissions from Expandable Polystyrene Operations | 10/2/00 | 5/7/01 68 FR 22924 | (c)(156)
26.11.19.21 | Control of Volatile Organic Compounds (VOC) Emissions from Commercial Bakery Ovens | 7/3/95 | 10/15/97 62FR 53544 | (c)(125)(i)(B)(4)
26.11.19.22 | Control of Volatile Organic Compounds (VOC) Emissions from Vinegar Generators | 8/11/97 | 9/23/99 64 FR 41445 | (c)(137)
26.11.19.23 | Control of Volatile Organic Compounds (VOC) Emissions from Vehicle Refinishing | 5/22/95 | 8/4/97 62 FR 41853 | (c)(124)
26.11.19.24 | Control of Volatile Organic Compounds (VOC) Emissions from Leather Coating Operations | 8/11/97 | 9/23/99 64 FR 41445 | (c)(137)
26.11.19.25 | Control of Volatile Organic Compounds from Explosives and 3852 Propellant Manufacturing | 8/11/97 | 1/26/99 64 FR 3852 | (c)(141)
26.11.19.26 | Control of Volatile Organic Compound Emissions from Reinforced Plastic Manufacturing | 8/11/97 | 8/19/99 64 FR 45182 | (c)(139)
26.11.19.27 | Control of Volatile Organic Compounds from Marine Vessel Coating Operations | 10/20/97 | 9/5/01 66 FR 46379 | (c)(166)
26.11.19.28 | Control of Volatile Organic Compounds from Bread and Snack Food Drying Operations. | 10/2/00 | 5/7/01 66 FR 22924 | (c)(157)
26.11.19.29 | Control of Volatile Organic Compounds from Distilled Spirits Facilities | 10/2/00, 10/15/01 | 11/7/01 66 FR 56220 | (c)(160)
26.11.19.30 | Control of Volatile Organic Compounds from Organic Chemical Production and Polytetrafluoroethylene Installations | 12/10/01, 11/11/02 | 6/3/03 68 FR 33000 | (c)(176)
26.11.20 | Mobile Sources
26.11.20.02 | Motor Vehicle Emission Control as Devices | 8/1/88 | 11/3/92 57 FR 49651 | (c)(90)(i)(B)(13) [as 26.11.20.06]
26.11.20.03 | Motor Vehicle Fuel Specifications | 10/126/92 | 6/10/94 58 FR 29957 | (c)(101)(i)(B)(3)
26.11.20.04 | National Low Emission Vehicle Program | 3/22/99 | 12/28/99 64 FR 72564 | (c)(146)
26.11.24 | Stage II Vapor Recovery at Gasoline Dispensing Facilities
26.11.24.01 | Definitions | 4/15/02 | 5/7/03 68 FR 24363 | (c)(178)
26.11.24.01-1 | Incorporation by Reference | 4/15/02 | 5/7/03 68 FR 24363 | (c)(178)
26.11.24.02 | Applicability, Exemptions, and Effective Date | 4/15/02 | 5/7/03 68 FR 24363 | (c)(178)
26.11.24.03 | General Requirements | 4/15/02 | 5/7/03 68 FR 24363 | (c)(178)
26.11.24.04 | Testing Requirements | 4/15/02 | 5/7/03 68 FR 24363 | (c)(178)
26.11.24.05 | Inspection Requirements | 2/15/93 | 6/9/94 59 FR 29730 | (c)(107)
26.11.24.06 | Training Requirements for Operation and Maintenance of Approved Systems | 2/15/93 | 6/9/94 59 FR 29730 | (c)(107)
26.11.24.07 | Record-Keeping and Reporting Requirements | 4/15/02 | 5/7/03 68 FR 24363 | (c)(178)
26.11.24.08 | Instructional Signs | 2/15/93 | 6/9/94 59 FR 29730 | (c)(107)
26.11.24.09 | Sanctions | 2/15/93 | 6/9/94 59 FR 29730 | (c)(107)
26.11.26 | Conformity
26.11.26.01 | Definitions | 5/15/95, 6/5/95 | 12/9/98 63 FR 67782 | (c)(136); definitions of Applicable implementation plan, Governor, State, and State air agency.
26.11.26.03 | General Conformity | 5/15/95, 6/5/95 | 12/9/98 63 FR 67782 | (c)(136); current COMAR citation is 26.11.26.04.
26.11.27 | Post RACT Requirements for NOX Sources (NOX Budget Program)
26.11.27.01 | Definitions | 6/1/98 | 12/15/00 65 FR 78416 | (c)(151)(i)(D)
26.11.27.02 | Incorporation by Reference | 6/1/98 | 12/15/00 65 FR 78416 | (c)(151)(i)(D)
26.11.27.03 | Applicability | 6/1/98 | 12/15/00 65 FR 78416 | (c)(151)(i)(D)
26.11.27.04 | General Requirements | 10/10/99 | 12/15/00 65 FR 78416 | (c)(151)(i)(E)
26.11.27.05 | Allowance Allocations | 6/1/98 | 12/15/00 65 FR 78416 | (c)(151)(i)(D)
26.11.27.06 | Identification of Authorized Account Representatives | 6/1/98 | 12/15/00 65 FR 78416 | (c)(151)(i)(D)
26.11.27.07 | Allowance Banking | 10/10/99 | 12/15/00 65 FR 78416 | (c)(151)(i)(E)
26.11.27.08 | Emission Monitoring | 6/1/98 | 12/15/00 65 FR 78416 | (c)(151)(i)(D)
26.11.27.09 | Reporting | 6/1/98 | 12/15/00 65 FR 78416 | (c)(151)(i)(D)
26.11.27.10 | Record Keeping | 6/1/98 | 12/15/00 65 FR 78416 | (c)(151)(i)(D)
26.11.27.11 | End-of-Season Reconciliation | 10/10/99 | 12/15/00 65 FR 78416 | (c)(151)(i)(E)
26.11.27.12 | Compliance Certification | 6/1/98 | 12/15/00 65 FR 78416 | (c)(151)(i)(D)
26.11.27.13 | Penalties | 6/1/98 | 12/15/00 65 FR 78416 | (c)(151)(i)(D)
26.11.27.14 | Audit | 6/1/98 | 12/15/00 65 FR 78416 | (c)(151)(i)(D)
26.11.28 | Policies and Procedures Relating to Maryland's NOX Budget Program
26.11.28.01 | Scope | 6/1/98 | 12/15/00 65 FR 78416 | (c)(151)(i)(D)
26.11.28.02 | Definitions | 6/1/98 | 12/15/00 65 FR 78416 | (c)(151)(i)(D)
26.11.28.03 | Procedures Relating Compliance to Accounts | 6/1/98 | 12/15/00 65 FR 78416 | (c)(151)(i)(D)
26.11.28.04 | Procedures Relating to General Accounts | 6/1/98 | 12/15/00 65 FR 78416 | (c)(151)(i)(D)
26.11.28.05 | Allowance Banking | 6/1/98 | 12/15/00 65 FR 78416 | (c)(151)(i)(D)
26.11.28.06 | Allowance Transfers | 6/1/98 | 12/15/00 65 FR 78416 | (c)(151)(i)(D)
26.11.28.07 | Emissions Monitoring | 6/1/98 | 12/15/00 65 FR 78416 | (c)(151)(i)(D)
26.11.28.09 | Opt-In Procedures | 6/1/98 | 12/15/00 65 FR 78416 | (c)(151)(i)(D)
26.11.28.10 | Audit Provisions | 6/1/98 | 12/15/00 65 FR 78416 | (c)(151)(i)(D)
26.11.28.11 | Allocations to Units in Operation in 1990 | 6/1/98 | 12/15/00 65 FR 78416 | (c)(151)(i)(D)
26.11.28.12 | Allocations to Budget Sources Beginning Operation or for Which a Permit Was Issued After 1990 and Before January 1, 1998 | 6/1/98 | 12/15/00 65 FR 78416 | (c)(151)(i)(D)
26.11.28.13 | Percent Contribution of Budget by Company | 6/1/98 | 12/15/00 65 FR 78416 | (c)(151)(i)(D)
26.11.29 | NOX Reduction and Trading Program
26.11.29.01 | Definitions | 5/1/00 | 1/10/01 66 FR 1866 | (c)(154)(i)(B)(1)
26.11.29.02 | Incorporation by Reference | 5/1/00 | 1/10/01 66 FR 1866 | (c)(154)(i)(B)(1)
26.11.29.03 | Scope and Applicability | 5/1/00 | 1/10/01 66 FR 1866 | (c)(154)(i)(B)(1)
26.11.29.04 | General Requirements for Affected Trading Sources | 5/1/00 | 1/10/01 66 FR 1866 | (c)(154)(i)(B)(1)
26.11.29.05 | NOX Allowance Allocations | 5/1/00 | 1/10/01 66 FR 1866 | (c)(154)(i)(B)(1)
26.11.29.06 | Compliance Supplement Pool | 5/1/00 | 1/10/01 66 FR 1866 | (c)(154)(i)(B)(1)
26.11.29.07 | Allowance Banking | 5/1/00 | 1/10/01 66 FR 1866 | (c)(154)(i)(B)(1)
26.11.29.08 | Emission Monitoring | 5/1/00 | 1/10/01 66 FR 1866 | (c)(154)(i)(B)(1)
26.11.29.09 | Requirements for New-Sources and Set-Aside Pool | 11/24/03 | 3/22/04 69 FR 13236 | (c)(184)(i)(C)(1)(5)
26.11.29.10 | Reporting | 5/1/00 | 1/10/01 66 FR 1866 | (c)(154)(i)(B)(1)
26.11.29.11 | Record Keeping | 5/1/00 | 1/10/01 66 FR 1866 | (c)(154)(i)(B)(1)
26.11.29.12 | End-of-Season Reconciliation | 5/1/00 | 1/10/01 66 FR 1866 | (c)(154)(i)(B)(1)
26.11.29.13 | Compliance Certification | 5/1/00 | 1/10/01 66 FR 1866 | (c)(154)(i)(B)(1)
26.11.29.14 | Penalties | 5/1/00 | 1/10/01 66 FR 1866 | (c)(154)(i)(B)(1)
26.11.29.15 | Requirements for Affected Nontrading Sources | 5/1/00 | 1/10/01 66 FR 1866 | (c)(154)(i)(B)(1)
26.11.30 | Policies and Procedures Relating to Maryland's NOX Reduction and Trading Program
26.11.30.01 | Scope and Applicability | 5/1/00 | 1/10/01 66 FR 1866 | (c)(154)(i)(B)(2)
26.11.30.02 | Definitions | 5/1/00 | 1/10/01 66 FR 1866 | (c)(154)(i)(B)(2)
26.11.30.03 | Procedures Relating to Compliance Accounts and Overdraft Accounts | 5/1/00 | 1/10/01 66 FR 1866 | (c)(154)(i)(B)(2)
26.11.30.04 | Procedures Relating to General Accounts | 5/1/00 | 1/10/01 66 FR 1866 | (c)(154)(i)(B)(2)
26.11.30.05 | Allowance Banking | 5/1/00 | 1/10/01 66 FR 1866 | (c)(154)(i)(B)(2)
26.11.30.06 | Allowance Transfers | 5/1/00 | 1/10/01 66 FR 1866 | (c)(154)(i)(B)(2)
26.11.30.07 | Early Reductions | 5/1/00 | 1/10/01 66 FR 1866 | (c)(154)(i)(B)(2)
26.11.30.08 | Opt-In Procedures | 5/1/00 | 1/10/01 66 FR 1866 | (c)(154)(i)(B)(2)
26.11.30.09 | Allocation of Allowances | 11/24/03 | 3/22/04 69 FR 13236 | (c)(184)(i)(A)(1)-(3)
26.11.32 | Control of Emissions of Volatile Organic Compounds from Consumer Products
26.11.32.01 | Applicability and Exemptions | 8/18/03 | 12/9/03 68 FR 68523 | (c)(185)
26.11.32.02 | Incorporation by Reference | 8/18/03 | 12/9/03 68 FR 68523 | (c)(185)
26.11.32.03 | Definitions | 8/18/03 | 12/9/03 68 FR 68523 | (c)(185)
26.11.32.04 | Standards—General | 8/18/03 | 12/9/03 68 FR 68523 | (c)(185)
26.11.32.05 | Standards—Requirements for Charcoal Lighter Materials | 8/18/03 | 12/9/03 68 FR 68523 | (c)(185)
26.11.32.06 | Standards—Requirements for Aerosol Adhesives | 8/18/03 | 12/9/03 68 FR 68523 | (c)(185)
26.11.32.07 | Standards—Requirements for Floor Wax Strippers | 8/18/03 | 12/9/03 68 FR 68523 | (c)(185)
26.11.32.08 | Innovative Products—CARB Exemption | 8/18/03 | 12/9/03 68 FR 68523 | (c)(185)
26.11.32.09 | Innovative Products—Department Exemption | 8/18/03 | 12/9/03 68 FR 68523 | (c)(185)
26.11.32.10 | Administrative Requirements | 8/18/03 | 12/9/03 68 FR 68523 | (c)(185)
26.11.32.11 | Reporting Requirements | 8/18/03 | 12/9/03 68 FR 68523 | (c)(185)
26.11.32.12 | Variances | 8/18/03 | 12/9/03 68 FR 68523 | (c)(185)
26.11.32.13 | Test Methods | 8/18/03 | 12/9/03 68 FR 68523 | (c)(185)
26.11.32.14 | Alternative Control Plan (ACP) | 8/18/03 | 12/9/03 68 FR 68523 | (c)(185)
26.11.32.15 | Approval of an ACP Application | 8/18/03 | 12/9/03 68 FR 68523 | (c)(185)
26.11.32.16 | Record Keeping and Availability of Requested Information | 8/18/03 | 12/9/03 68 FR 68523 | (c)(185)
26.11.32.17 | Violations | 8/18/03 | 12/9/03 68 FR 68523 | (c)(185)
26.11.32.18 | Surplus Reductions and Surplus Trading | 8/18/03 | 12/9/03 68 FR 68523 | (c)(185)
26.11.32.19 | Limited-Use Surplus Reduction Credits for Early Reformulations of ACP Products | 8/18/03 | 12/9/03 68 FR 68523 | (c)(185)
26.11.32.20 | Reconciliation of Shortfalls | 8/18/03 | 12/9/03 68 FR 68523 | (c)(185)
26.11.32.21 | Modifications to an ACP | 8/18/03 | 12/9/03 68 FR 68523 | (c)(185)
26.11.32.22 | Cancellation of an ACP | 8/18/03 | 12/9/03 68 FR 68523 | (c)(185)
26.11.32.23 | Transfer of an ACP | 8/18/03 | 12/9/03 68 FR 68523 | (c)(185)
11.14.08 | Vehicle Emissions Inspection Program
11.14.08.01 | Title | 1/02/95 | 10/29/99 64 FR 58340 | (c)(144)
11.14.08.02 | Definitions | 1/02/95, 10/19/98 | 10/29/99 64 FR 58340 | (c)(144)
11.14.08.03 | Applicability | 6/10/02 | 1/16/03 68 FR 2208 | (c)(179)
11.14.08.04 | Exemptions | 1/02/95 | 10/29/99 64 FR 58340 | (c)(144)
11.14.08.05 | Schedule of the Program | 1/02/95, 12/16/96 | 10/29/99 64 FR 58340 | (c)(144)
11.14.08.06 | Certificates | 6/10/02 | 1/16/03 68 FR 2208 | (c)(179)
11.14.08.07 | Extensions | 1/02/95, 10/19/98 | 10/29/99 64 FR 58340 | (c)(144)
11.14.08.08 | Enforcement | 1/02/95 | 10/29/99 64 FR 58340 | (c)(144)
11.14.08.09 | Inspection Standards | 6/10/02 | 1/16/03 68 FR 2208 | (c)(179)
11.14.08.10 | General Requirements for Inspection and Preparation for Inspection | 1/02/95, 12/16/96, 10/19/98 | 10/29/99 64 FR 58340 | (c)(144)
11.14.08.11 | Idle Exhaust Emissions Test and Equipment Checks | 10/18/98 | 10/29/99 64 FR 58340 | (c)(144)
11.14.08.11-1 | Transient Exhaust Emissions Test and Evaporative Purge Test Sequence | 12/16/96, 10/19/98 | 10/29/99 64 FR 58340 | (c)(144)
11.14.08.12 | Evaporative Integrity Test, Gas Cap Leak Test, and On-Board Diagnostics Interrogation Procedures | 6/10/02 | 1/16/03 68 FR 2208 | (c)(179)
11.14.08.13 | Failed Vehicle and Reinspection Procedures | 1/02/95 | 10/29/99 64 FR 58340 | (c)(144)
11.14.08.14 | Dynamometer System Specifications | 1/02/95 | 10/29/99 64 FR 58340 | (c)(144)
11.14.08.15 | Constant Volume Sampler, Analysis System, and Inspector Control Specifications | 1/02/95, 10/19/98 | 10/29/99 64 FR 58340 | (c)(144)
11.14.08.16 | Evaporative Test Equipment, Gas Cap Leak Test Equipment, and on-Board Diagnostics Interrogation Equipment Specifications | 6/10/02 | 1/16/03 68 FR 2208 | (c)(179)
11.14.08.17 | Quality Assurance and Maintenance—General Requirements | 1/02/95 | 10/29/99 64 FR 58340 | (c)(144)
11.14.08.18 | Test Assurance Procedures | 1/02/95 | 10/29/99 64 FR 58340 | (c)(144)
11.14.08.19 | Dynamometer Periodic Quality Assurance Checks | 1/02/95 | 10/29/99 64 FR 58340 | (c)(144)
11.14.08.20 | Constant Volume Sampler Periodic Quality Assurance Checks | 1/02/95 | 10/29/99 64 FR 58340 | (c)(144)
11.14.08.21 | Analysis System Periodic Quality Assurance Checks | 1/02/95 | 10/29/99 64 FR 58340 | (c)(144)
11.14.08.22 | Evaporative Test Equipment and On-board Diagnostics Interrogation Equipment Periodic Quality Assurance Checks | 1/02/95, 10/19/98 | 10/29/99 64 FR 58340 | (c)(144)
11.14.08.23 | Overall System Performance Quality Assurance | 1/02/95 | 10/29/99 64 FR 58340 | (c)(144)
11.14.08.24 | Control Charts | 1/02/95 | 10/29/99 64 FR 58340 | (c)(144)
11.14.08.25 | Gas Specifications | 1/02/95 | 10/29/99 64 FR 58340 | (c)(144)
11.14.08.26 | Vehicle Emissions Inspection Station | 1/02/95 | 10/29/99 64 FR 58340 | (c)(144)
11.14.08.27 | Technician's Vehicle Report | 1/02/95, 10/19/98 | 10/29/99 64 FR 58340 | (c)(144)
11.14.08.28 | Feedback Reports | 1/02/95, 10/19/98 | 10/29/99 64 FR 58340 | (c)(144)
11.14.08.29 | Certified Emissions Technicians | 1/02/95, 12/16/96 | 10/29/99 64 FR 58340 | (c)(144)
11.14.08.30 | Certified Emissions Repair Facility | 1/02/95, 12/16/96 | 10/29/99 64 FR 58340 | (c)(144)
11.14.08.31 | On-Highway Emissions Test | 1/02/95 | 10/29/99 64 FR 58340 | (c)(144)
11.14.08.32 | Fleet Inspection Station | 1/02/95, 12/16/96, 10/19/98 | 10/29/99 64 FR 58340 | (c)(144)
11.14.08.33 | Fleet Inspection Standards | 1/02/95 | 10/29/99 64 FR 58340 | (c)(144)
11.14.08.34 | Fleet Inspection and Reinspection Methods | 1/02/95 | 10/29/99 64 FR 58340 | (c)(144)
11.14.08.35 | Fleet Equipment and Quality Assurance Requirements | 1/02/95 | 10/29/99 64 FR 58340 | (c)(144)
11.14.08.36 | Fleet Personnel Requirements | 1/02/95 | 10/29/99 64 FR 58340 | (c)(144)
11.14.08.37 | Fleet Calibration Gas Specifications and Standard Reference Methods | 1/02/95 | 10/29/99 64 FR 58340 | (c)(144)
11.14.08.38 | Fleet Record-Keeping Requirements | 1/02/95 | 10/29/99 64 FR 58340 | (c)(144)
11.14.08.39 | Fleet Fees | 1/02/95 | 10/29/99 64 FR 58340 | (c)(144)
11.14.08.40 | Fleet License Suspension and Revocation | 1/02/95 | 10/29/99 64 FR 58340 | (c)(144)
11.14.08.41 | Audits | 1/02/95 | 10/29/99 64 FR 58340 | (c)(144)
11.14.08.42 | Fleet Inspection After 1998 | 1/02/95, 2/16/96, 10/19/98 | 10/29/99 64 FR 58340 | (c)(144)
03.03.05 | Motor Fuel Inspection [Contingency SIP Measure]
03.03.05.01 | Definitions | 12/18/95 | 1/30/96 61 FR 2982 | (c)(101)(i)(B)(4); Approved as a contingency SIP measure as part of the CO Maintenance Plans for Baltimore and DC. [(c)(117) and (c)(118)]
03.03.05.01-1 | Standard Specifications for Gasoline | 12/18/95 | 1/30/96 61 FR 2982
03.03.05.02-1 | Other Motor Vehicle Fuels | 10/26/92 | 6/10/94 58 FR 29957
03.03.05.05 | Labeling of Pumps | 12/18/95 | 1/30/96 61 FR 2982
03.03.05.08 | Samples and Test Tolerance | 10/26/92 | 6/10/94 58 FR 29957
03.03.05.15 | Commingled Products | 10/26/92 | 6/10/94 58 FR 29957
03.03.06 | Emissions Control Compliance [Contingency SIP Measure]
03.03.06.01 | Definitions | 12/18/95 | 1/30/96 61 FR 2982 | (c)(101)(i)(B)(5); Approved as a contingency SIP measure as part of the CO Maintenance Plans for Baltimore and DC. [(c)(117) and (c)(118)]
03.03.06.02 | Vapor Pressure Determination | 10/26/92 | 6/10/94 58 FR 29957
03.03.06.03 | Oxygen Content Determination | 12/18/95 | 1/30/96 61 FR 2982
03.03.06.04 | Registration | 10/26/92 | 6/10/94 58 FR 29957
03.03.06.05 | Recordkeeping | 10/26/92 | 6/10/94 58 FR 29957
03.03.06.06 | Transfer Documentation | 12/18/95 | 1/30/96 61 FR 2982
TM | Technical Memoranda
TM81-04 | Procedures for Observing and Evaluating Visible Emissions from Stationary Sources | 5/1/81 | 6/18/82 47 FR 26381 | (c)(67)
TM83-05 | Stack Test Methods for Stationary Sources | 6/1/83 | 2/23/85 50 FR 7595 | (c)(80)
TM91-01 [Except Methods 1004, 1004A through I, 1010] | Test Methods and Equipment Specifications for Stationary Sources | 2/15/93 | 9/7/94 59 FR 46105 | (c)(105)(i)(B)(1)

(d) EPA approved state source-specific requirements.

EPA-Approved Maryland Source-Specific Requirements
Name of source | Permit No./type | State effective date | EPA approval date | Additional explanation
(PEPCO)—Chalk Point Units #1 and #2 | #49352 Amended Consent Order | 1/27/78 | 4//2/79 44 FR 19192 | 52.1100(c)(22); FRN republished 5/3/79 (44 FR 25840)
Beall Jr./Sr. High School | Consent Order | 1/30/79 | 3/18/80 45 FR 17144 | 52.1100(c)(26)
Mt. Saint Mary's College | Consent Order | 3/8/79 | 3/18/80 45 FR 17144 | 52.1100(c)(26)
Potomac Electric Power Company (PEPCO)—Chalk Point | Secretarial Order | 7/19/79 | 9/3/80 40 FR 58340 | 52.1100(c)(34)
Maryland Slag Co. | Consent Agreement (Order) | 10/31/80 | 9/8/81 41 FR 44757 | 52.1100(c)(49)
Northeast Maryland Waste Disposal Authority | Secretarial Order | 11/20/81 | 7/7/82 47 FR 29531 | 52.1100(c)(65) (Wheelabrator-Frye, Inc.)
Northeast Maryland Waste Disposal Authority and Wheelabrator-Frye, Inc. and the Mayor and City Council of Baltimore and BEDCO Development Corp | Secretarial Order | 2/25/83 | 8/24/83 45 FR 55179 | 52.1100(c)(70) (Shutdown of landfill for offsets)
Westvaco Corp | Consent Order | 9/6/83 Rev. 1/26/84 | 12/20/84 49 FR 49457 | 52.1100(c)(74)
American Cyanamid Co | Secretarial Order (bubble) | 8/2/84 | 5/16/90 55 FR 20269 | 52.1100(c)(87) [later renumbered as 52.1100(c)(91)]
Potomac Electric Power Company (PEPCO) | Administrative Consent Order | 9/13/99 | 12/15/00 65 FR 78416 | 52.1100(c)(151)
Thomas Manufacturing Corp | Consent Decree | 2/15/01 | 11/15/01 66 FR 57395 | 52.1100(c)(167)
Constellation Power Source Generation, Inc.—Brandon Shores Units #1 & 2; Gould Street Unit #3; H.A. Wagner Units #1, 2, 3 & 4; C.P. Crane Units #1 & 3; and Riverside Unit #4 | Consent Order and NOX RACT Averaging Plan Proposal | 4/25/01 | 2/27/02 67 FR 8897 | 52.1100(c)(168)
Kaydon Ring and Seal, Inc | Consent Order | 3/5/04 | 8/31/04 69 FR 53002 | (c)(190); SIP effective date is 11/1/04

(e) EPA-approved nonregulatory and quasi-regulatory material.

Name of non-regulatory SIP revision | Applicable geographic area | State submittal date | EPA approval date | Additional explanation
1990 Base Year Emissions Inventory | Metropolitan Baltimore Ozone Nonattainment Area | 9/20/95 | 10/30/95 60 FR 55321 | 52.1075(a) CO
1990 Base Year Emissions Inventory | Metropolitan Washington Ozone Nonattainment Area | 3/21/94, 10/12/95 | 1/30/96 61 FR 2931 | 52.1075(b) CO
1990 Base Year Emissions Inventory | All ozone nonattainment areas | 3/21/94 | 9/27/96 61 FR 50715 | 52.1075(c) VOC, NOX , CO
1990 Base Year Emissions Inventory | Kent and Queen Anne's Counties | 3/21/94 | 4/23/97 62 FR 19676 | 52.1075(d) VOC, NOX , CO
1990 Base Year Emissions Inventory | Metropolitan Washington Ozone Nonattainment Area | 3/21/94 | 4/23/97 62 FR 19676 | 52.1075(e) VOC, NOX , CO
1990 Base Year Emissions Inventory | Metropolitan Washington Ozone Nonattainment Area | 12/24/97 | 7/8/98 63 FR 36854 | 52.1075(f) VOC, NOX
1990 Base Year Emissions Inventory | Metropolitan Baltimore Ozone Nonattainment Area | 12/24/97 | 2/3/00 63 FR 5245 | 52.1075(g) VOC, NOX
1990 Base Year Emissions Inventory | Philadelphia-Wilmington-Trenton Ozone Nonattainment Area | 12/24/97, 4/29/98, 12/21/99 | 2/3/00 63 FR 5252 | 52.1075(h) VOC, NOX
| (Cecil County) | 12/28/00 | 9/19/01 66 FR 44809
15% Rate of Progress Plan | Philadelphia-Wilmington-Trenton Ozone Nonattainment Area (Cecil County) | 7/12/95, #95-20 | 7/29/97 62 FR 40457 | 52.1076(a)
Stage II Vapor Recovery Comparability Plan | Western Maryland and Eastern Shore Counties | 11/5/97 | 12/9/98 63 FR 67780 | 52.1076(b)
15% Rate of Progress Plan | Metropolitan Baltimore Ozone Nonattainment Area | 10/7/98 | 2/3/00 65 FR 5245 | 52.1076(c)
15% Rate of Progress Plan | Metropolitan Washington Ozone Nonattainment Area | 5/5/98 | 7/19/00 65 FR 44686 | 52.1076(d)
Post-1996 Rate of Progress Plan and contingency measures | Philadelphia-Wilmington-Trenton Ozone Nonattainment Area (Cecil County) | 12/24/97, 4/24/98, 8/18/98 | 2/3/00 63 FR 5252 | 52.1076(f)
|  | 12/21/99, 12/28/00 | 9/19/01 66 FR 44809
|  | 3/8/04 | 4/15/04 69 FR 19939 | 52.1076(f)(3)
Ozone Attainment Plan | Philadelphia-Wilmington-Trenton Ozone Nonattainment Area (Cecil County) | 4/29/98, 8/18/98, 12/21/99, 12/28/00, 8/31/01 | 10/29/01 66 FR 54578 | 52.1076(h)
|  | 9/2/03 | 10/27/03 68 FR 61103
Transportation Conformity Budgets | Philadelphia-Wilmington-Trenton Ozone Nonattainment Area (Cecil County) | 4/29/98, 8/18/98, 12/21/99, 12/28/00 | 10/29/01 66 FR 54578 | 52.1076(i)
Post-1996 Rate of Progress Plan and contingency measures | Metropolitan Baltimore Ozone Nonattainment Area | 12/24/97, 4/24/98, 8/18/98, 12/21/99, 12/28/00 | 9/26/01 66 FR 49108 | 52.1076(j)
Ozone Attainment Plan | Metropolitan Baltimore Ozone Nonattainment Area | 4/29/98, 8/18/98, 12/21/99, 12/28/00, 8/31/01 | 10/30/01 66 FR 54666 | 52.1076(k)
|  | 9/2/03 | 10/27/03 68 FR 61103 | 52.1076(k)
Mobile budgets | Metropolitan Baltimore Ozone Nonattainment Area | 8/31/01 | 10/30/01 66 FR 54666 | 52.1076(l)
|  | 9/2/03 | 10/27/03 68 FR 61103
Mobile budgets (2005) | Metropolitan Baltimore Ozone Nonattainment Area | 9/2/03 | 10/27/03 68 FR 61103 | 52.1076(m)
| Philadelphia-Wilmington-Trenton Ozone Nonattainment Area (Cecil County) |  |  |
Extension for incorporation of the on-board diagnostics (OBD) testing program into the Maryland I/M SIP | All ozone nonattainment areas | 7/9/02 | 1/16/03 68 FR 2208 | 52.1078(b)
Photochenmical Assessment Monitoring Stations (PAMS) Program | Metropolitan Baltimore and Metropolitan Ozone Nonattainment Areas | 3/24/94 | 9/11/95 60 FR 47081 | 52.1080
Consultation with Local Officials (CAA Sections 121 and 127) | All nonattainment and PSD areas | 10/8/81 | 4/8/82 47 FR 15140 | 52.1100(c)(63)
Lead (Pb) SIP | City of Baltimore | 10/23/80 | 2/23/82 47 FR 7835 | 52.1100(c)(60), (61)
TM#90-01—“Continuous Emission Monitoring Policies and Procedures”—October 1990 | Statewide | 9/18/91 | 2/28/96 61 FR 7418 | 52.1100(c)(106); approved into SIP as “additional material”, but not IBR'd
Carbon Monoxide Maintenance Plan | City of Baltimore-Regional Planning District 118 | 9/20/95 | 10/31/95 60 FR 55321 | 52.1100(c)(117)
Carbon Monoxide Maintenance Plan | Montgomery County Election Districts 4, 7, and 13; Prince Georges County Election Districts 2, 6, 16, 16, 17 and 18 | 10/12/95 | 1/30/96 61 FR 2931 | 52.1100(c)(118)
Ozone Maintenance Plan | Kent and Queen Anne's Counties | 2/4/04 | 10/21/04 69 FR 61766 | 52.1100(c)(187); SIP effective date is 11/22/04

[FR Doc. 04-26291 Filed 11-26-04; 8:45 am]

BILLING CODE 6560-50-P